DEPARTMENT OF ENERGY

Federal Energy Regulatory Commission

[Docket No. ER24-1271-000]

Alton Post Office Solar, LLC; Supplemental Notice That Initial Market-Based Rate Filing Includes Request for Blanket Section 204 Authorization

Correction

In notice document 2024-03918 beginning on page 14473 in the issue of Tuesday, February 27, 2024, make the following correction:

On page 14473, the document heading should read as set forth above.

[FR Doc. C1-2024-03918 Filed 3-20-24; 8:45 am]

BILLING CODE 0099-10-P